DEPARTMENT OF TRANSPORTATION

Federal Aviation Administration

Cancellation of Preparation of Environmental Impact Statement for Lihue Airport, Lihue, Kauai, HI

AGENCY: Federal Aviation Administration, DOT.

ACTION: Notice of cancellation of preparation of environmental impact statement.

SUMMARY: The Federal Aviation Administration (FAA) announces that it has decided to discontinue preparation of an Environmental Impact Statement (EIS) for a proposed runway extension project at Lihue Airport, Lihue, Kauai, Hawaii. The FAA's decision to discontinue preparation of the EIS is based upon the decision by the Governor of the State of Hawaii to cancel the proposed runway extension project at Lihue Airport.

FOR FURTHER INFORMATION CONTACT: David J. Welhouse, Project Engineer, HNL-621, Federal Aviation Administration, Honolulu Airports District Office, Box 50244, Honolulu, Hawaii, 96850-0001, Telephone: 808/541-1243.

SUPPLEMENTARY INFORMATION: On October 28, 1998, the Federal Aviation Administration (FAA) issued a Notice of Intent to prepare an Environmental Impact Statement for future development at Lihue Airport, Lihue, Kauai, Hawaii in the Federal Register. The need to prepare an Environmental Impact Statement (EIS) was based on the procedures described in FAA Order 5050.4A, Airport Environmental Handbook. The need to prepare a federal EIS was primarily based on the state of Hawaii's proposed extension to Runway 17/35. The State of Hawaii, Department of Transportation—Airports Division's (HDOT), as the owner and operator of Lihue Airport has notified the FAA of the state's decision to discontinue pursuit of the proposed extension to Runway 17/35. The FAA has determined that the other various proposed projects identified in the FAA's October 28, 1998, Notice of Intent for Lihue Airport, are categorically excluded pursuant to FAA Order 5050.4A, Airport Environmental Handbook are therefore, does not require preparation of an EIS to comply with the provisions of the National Environmental Policy Act of 1969.

Issued in Hawthorne, California on Friday, July 20, 2001.
Herman C. Bliss,
Manager, Airports Division, Western Pacific Region, AWP-600.

[FR Doc. 01-19370 Filed 8-2-01; 8:45 am]

BILLING CODE 4910-13-M